DEPARTMENT OF HEALTH AND HUMAN SERVICES

Agency for Healthcare Research and Quality

Meeting of the National Advisory Council for Healthcare Research and Quality

AGENCY: Agency for Healthcare Research and Quality.

ACTION: Notice of public meeting.

SUMMARY: In accordance with section 10(a) of the Federal Advisory Committee Act, this notice announces a meeting of the National Advisory Council for Healthcare Research and Quality

DATES: The meeting will be held on Friday, November 3, 2000, from 8:30 a.m. to 4:00 p.m. and is open to the public.

ADDRESSES: The meeting will be held at 6010 Executive Boulevard, Fourth Floor, Rockville, Maryland 20852.

FOR FURTHER INFORMATION CONTACT: Anne Lebbon, Coordinator of the Advisory Council, at the Agency for Healthcare Research and Quality, 2101 East Jefferson Street, Suite 600, Rockville, Maryland 20852, (301) 594-7216. For press-related information, please contact Karen Migdail at 301/594-6120.

If sign language interpretation or other reasonable accommodation for a disability is needed, please contact Linda Reeves, Assistance Administrator for Equal Opportunity, AHRQ, on (301) 594-6662 no later than November 1, 2000.

SUPPLEMENTARY INFORMATION:

I. Purpose

Section 921 of the Public Health Service Act (42 U.S.C. 299c) established the National Advisory Council for Healthcare Research and Quality. In accordance with its statutory mandate, the Council is to advise the Secretary and the Director, Agency for Healthcare Research and Quality (AHRQ), on matters related to actions of the Agency to enhance the quality, improve outcomes, reduce costs of health care services, improve access to such services through scientific research, the promotion of improvements in clinical practice and in the organization, financing, and delivery of health care services.

The Council is composed of members of the public appointed by the Secretary and Federal ex-officio members. Donald M. Berwick. M.D., the Council chairman, will preside.

II. Agenda

On Friday, November 3, 2000, the meeting will begin at 8:30 a.m., with the call to order by the Council Chairman. The Director, AHRQ, will present the status of the Agency's current research, programs and initiative. Tentative agenda items include evidence-based practice centers, patient safety, translating research into practice (T.R.I.P.), and Office of Priority Populations Research. The official agenda will be available on AHRQ's website at www.ahrq.gov no later than October 20, 2000. The meeting will adjourn at 4:00 p.m.

Dated: October 13, 2000.
John M. Eisenberg,
Director.

[FR Doc. 00-27104 Filed 10-20-00; 8:45 am]

BILLING CODE 4160-90-M